DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Cooperative Game Fish Tagging Report.

Form Number(s): NOAA FORM 88-162.

OMB Approval Number: 0648-0247.

Type of Request: Regular submission.

Burden Hours: 360.

Number of Respondents: 12,000.

Average Hours Per Response: 2 minutes.

Needs and Uses: The Cooperative Tagging Center, part of the National Marine Fisheries Service (NMFS), attempts to determine the migration patterns and other biological information of billfish, tunas, and swordfish. The fish tagging report card is provided to the angler with the tags, and he/she fills out the card with the information when a fish is tagged. The card is then mailed back to NMFS where the data is stored.

Affected Public: Individuals or households.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 21, 2005.
Gwellnar Banks,
Management Analyst, Office of the Chief Information Officer.

[FR Doc. 05-8313 Filed 4-25-05; 8:45 am]

BILLING CODE 3510-22-P